DEPARTMENT OF HEALTH AND HUMAN SERVICES

Administration for Children and Families

[CFDA Numbers: 93.581, 93.587, 93.612]

Request for Public Comment on the Proposed Adoption of Administration for Native Americans Program Policies and Procedures

AGENCY: Administration for Native Americans, ACF, HHS.

ACTION: Notice for public comment.

SUMMARY: Pursuant to Section 814 of the Native American Programs Act of 1974 (NAPA), as amended, the Administration for Native Americans (ANA) is required to provide members of the public an opportunity to comment on proposed changes in interpretive rules and general statements of policy and to give notice of the final adoption of such changes no less than 30 days before such changes become effective. In accordance with notice requirements of NAPA, ANA herein describes proposed interpretive rules and general statements of policy that relate to ANA's funding opportunities beginning in fiscal year (FY) 2017 related to the following programs: Environmental Regulatory Enhancement (HHS-2017-ACF-ANA-NR-1221), Sustainable Employment and Economic Development Strategies (HHS-2017-ACF-ANA-NE-1225), Native American Language Preservation and Maintenance-Esther Martinez Immersion (HHS-2017-ACF-ANA-NB-1226), Native American Language Preservation and Maintenance (HHS-2017-ACF-ANA-NL-1235), Social and Economic Development Strategies (HHS-2017-ACF-ANA-NA-1236), and Economic Development Strategies-Alaska (HHS-2015-ACF-ANA-NK-0960), and Native Youth Initiative for Leadership, Empowerment, and Development (HHS-2017-ACF-ANA-NC-1263). This notice of public comment also provides additional information about ANA's plan for administering grant programs.

DATES: The deadline for receipt of comments is 30 days from the date of publication in the Federal Register. No Funding Opportunity Announcement (FOA) will be published prior to 30 days from publication of this Notice.

ADDRESSES: Comments in response to this notice should be addressed to Camille Loya, Director of Policy, Administration for Native Americans, 330 C Street SW., Washington, DC 20201. Delays may occur in mail delivery to federal offices; therefore, a copy of comments should be emailed to ANAComments@acf.hhs.gov. Comments will be available for inspection by members of the public at the Administration for Native Americans, 330 C Street SW., Washington, DC 20201.

FOR FURTHER INFORMATION CONTACT: Camille Loya, Director, Division of Policy, Administration for Native Americans, (877) 922-9262.

SUPPLEMENTARY INFORMATION: Section 814 of NAPA, as amended, incorporates provisions of the Administrative Procedure Act that require ANA to provide notice of its proposed interpretive rules and statements of policy and to seek public comment on such proposals. ANA has also decided to provide notice and seek comments on proposed new rules of agency organization, procedure, or practice. The proposed interpretive rules, statements of policy, and rules of ANA procedure and practice reflected in clarifications, modifications, and new text will appear in the seven FY 2017 FOAs: Environmental Regulatory Enhancement (ERE), Sustainable Employment and Economic Development Strategies (SEEDS), Native American Language Preservation and Maintenance-Esther Martinez Immersion (EMI), Native American Language Preservation and Maintenance (P&M), Social and Economic Development Strategies (SEDS), Social and Economic Development Strategies-Alaska (SEDS-AK), and Native Youth Initiative for Leadership, Empowerment, and Development (I-LEAD). This notice serves to fulfill the statutory notice and public comment requirement.

A. Funding Opportunity Announcements

For information on the types of projects funded by ANA, please refer to the following for information on current and previously funded ANA grants at http://www.acf.hhs.gov/ana/grants.

B. Interpretive Rules, Statements of Policy, Procedures, and Practice

1. The following is applicable to all ANA FOAs published beginning in FY 2017:

a. Pre-application trainings, teleconferences, or webinars. It is government-wide policy and practice that each FOA contain all of the detail needed for an applicant to fully understand the funding opportunity and submit a complete and compliant application. ANA has historically conducted in-person pre-application trainings through its Regional Technical Assistance (TA) Centers and now proposes possible additional pre-application teleconferences or webinars related to its FOAs beginning in FY 2017. Joining and participating in any pre-application in-person training, teleconference, or webinar is voluntary and only information provided in published FOAs will be presented. ACF policy requires that no additional information that is not already provided in the FOA can be disseminated after FOAs have been published. Participation in any of the pre-application training or informational opportunities is voluntary and will not affect award selection. Participants will remain anonymous and, in the case of in-person training, names of participants will not be retained after the training. Opting not to participate in a pre-application in-person training, teleconference, or webinar will not affect eligibility, application scoring, or the selection process. Applicants unable to attend pre-application teleconferences or webinars will be able to access materials, recordings, or transcripts on the ANA Web site at on the Events section of the ANA Web site at http://www.acf.hhs.gov/ana/events after the teleconference or webinar has concluded and no later than 30 days prior to the application due date. ANA has historically posted its Pre-Application Guide to Developing and Writing Your ANA Application that is used in in-person pre-application meetings and will continue to do so. This resource can be found at http://www.acf.hhs.gov/ana/resource/pre-application-training-manual. For the dates, times, registration, and other information for scheduled pre-application in-person trainings applicants should contact the appropriate regional Training and Technical Assistance Provider at http://www.acf.hhs.gov/ana/t-ta-regions-map. This proposed policy and practice will be reflected in Section I. Program Description—Pre-Application Teleconferences or Webinars of the FOAs.

b. Application periods. ANA proposes to reduce from 90 to 60 days the time period applicants have to respond to all FY 2017 FOAs because we have determined, based on experience and feedback provided by prior applicants and TA providers, that a 60-day period to prepare, finalize, and submit applications responsive to the FOAs is a sufficient period of time. In addition, a 60-day application period will help ANA to ensure grants are awarded timely given the time required for competitive panel review, internal review, award decisions, and administrative processing of grant awards. This proposed policy and practice will be reflected in the Overview Section of the FOAs.

c. Application Toolkit. ANA proposes to add a link in all FOAs to allow applicants to access ANA's newly established ANA Application Toolkit. The purpose of the Application Toolkit is to provide examples and templates to assist eligible applicants to navigate the application requirements detailed in FOAs. As a collection of otherwise available tools, use of the ANA Application Toolkit is voluntary. This proposed practice will be reflected in Section VIII. Other Information, Reference Web sites in the FOAs.

2. The following is applicable to Social and Economic Development Strategies (SEDS) FOA (HHS-2017-ACF-ANA-NA-1236), including Social and Economic Development Strategies for Alaska (SEDS-AK) (HHS-2015-ACF-ANA-NK-0960), beginning in FY 2017:

New Program Area of Interest. In response to the enactment of the Native American Tourism and Improving Visitor Experience Act (NATIVE Act), Public Law 114-221, in September 2016, ANA proposes to include a new economic development program area of interest under the SEDS and SEDS-AK FOAs. The new program area of interest is proposed as:

Tourism—Planning or developing resources, services, and businesses that promote travel, recreation and tourism, or branding to tell the story of Native Americans as the First Peoples of the United States. Projects may use the arts or other cultural resources to help revitalize Native communities, promote economic development, increase livability, and present the uniqueness of the Native communities to visitors in a way that celebrates the diversity of the United States

Even though ANA has previously funded economic and social development projects broadly falling under tourism, the new program area of interest is proposed in response to new specific statutory authority under the NATIVE Act. This proposed policy will be reflected in Section I. Program Description, Program Areas of Interest in the SEDS and SEDS-AK FOAs.

3. The following is applicable to Native Youth Initiative for Leadership, Empowerment, and Development (I-LEAD) (HHS-2017-ACF-ANA-NC-1263) FOA beginning in FY 2017:

a. Application due dates. ANA proposes to modify the application due dates for I-LEAD applications because ANA anticipates earlier publication than in FY 2016. In addition, ANA proposes a 60-day application period for all FY 2017 FOAs. These two factors combine to result in earlier I-LEAD application deadlines.

b. Grants as the instruments ofI-LEAD financial assistance. In 2016, ANA awarded I-LEAD financial assistance as cooperative agreements. We propose, beginning in FY 2017, to award I-LEAD financial assistance as grants instead of cooperative agreements because we do not believe the level of substantial federal involvement associated with cooperative agreements is necessary for successful futureI-LEAD projects. Both cooperative agreements and grants are legal instruments of financial assistance, but cooperative agreements are distinguished from grants in that cooperative agreements provide for substantial federal involvement between the federal awarding agency (ANA) and the non-federal entity (I-LEAD awardee) in carrying out the activity(ies) contemplated by the federal award. In general terms, “substantial federal involvement” refers to the degree to which federal employees (or technical assistance providers) are directly performing, implementing, or directing parts of the funded program. In a cooperative agreement, federal employees and their agents participate more closely in performance under the financial assistance award including mandated collaborations and activities with other entities. In contrast, with grants, the federal government is limited to an oversight and monitoring role but does not direct grant performance. ANA has determined that I-LEAD projects do not require the level of “substantial federal involvement” contemplated by cooperative agreements. While ANA intends to continue to develop and refine technical assistance resources, materials, and opportunities for all recipients of I-LEAD awards and to encourage and facilitate communities of practice across funded projects serving Native youth, we have determined that the oversight and monitoring role is sufficient to ensure the purposes of I-LEAD projects are adequately supported while, at the same time, allowing I-LEAD grant recipients to determine how to implement their grants within the terms and conditions of their grant awards.

c. Length of project periods. ANA proposes to shorten the project period for I-LEAD awards beginning in FY 2017 from no more than 60 months to no more than 48 months because we have determined that project periods of up to 48 months better position I-LEAD projects for long-term success. Based on ANA's experience with the first recipients of I-LEAD financial assistance, we believe slightly more compressed I-LEAD project periods will facilitate greater emphasis by I-LEAD grantees, at the beginning their projects, on the efficient implementation of culturally relevant evidence-based programming as well as a greater emphasis at end of I-LEAD project periods on activities to ensure financial and programmatic sustainability of project outcomes. We believe there is an inherent momentum in 48-month project periods that will carry I-LEAD projects forward from planning, implementation, and continuous quality improvement to long term sustainability at the end of 48-month I-LEAD project periods. This proposed policy will be reflected in the Executive Summary of the I-LEAD FOA.

d. Project Description—

i. Objective Work Plan. ANA proposes requiring submission of the Objective Work Plan (OWP) as part of the initial application submission and reflecting the entire project period of up to 48 months. When I-LEAD projects were funded as cooperative agreements, part of ANA's substantial federal involvement included post-award development of the OWP in partnership with I-LEAD recipients. Since ANA proposes to award I-LEAD financial assistance as grants, without the substantial federal involvement entailed by joint development of OWPs, submission of the OWP as an application requirement beginning in FY 2017 has been determined necessary to support adequate project planning and post-award monitoring. This proposed policy will be reflected in Section IV.2. Content and Form of Application Submission—Project Description—Objective Work Plan in the I-LEAD FOA.

ii. Outcome oriented project objectives. ANA proposes outcome oriented objectives that are Specific, Measurable, Achievable, Relevant, and Time-bound (S.M.A.R.T.) be included in funding applications because it is our experience that objectives that are S.M.A.R.T. are more likely to be achieved and are more likely to be useful to gauge project progress. This change for I-LEAD projects would also make the requirements for I-LEAD applications consistent with the application requirements for ANA's other funding opportunities. This proposed policy will be reflected in Section IV.2. Content and Form of Application Submission—Project Description—Expected Outcomes—Objectives and V.1. Criteria—Outcomes Expected in the I-LEAD FOA.

iii. Impact Indicator. ANA proposes applications for I-LEAD financial assistance include at least one impact indicator: a qualitative measure that defines factor(s) the project needs to benchmark and monitor. Impact indicators also provide the means for measuring and evaluating an I-LEAD project's progress and impact. This proposed policy will be reflected in the Section IV.2. Content and Form of Application Submission—Project Description—Expected Outcomes—Impact in the I-LEAD FOA.

e. Project Budget and Budget Justification. I-LEAD applicants are required to attend ANA's annual grantee meeting. We propose to add a new requirement of attendance for an additional day to convene with I-LEAD projects funded by ANA and the youth involved in project implementation. This proposed policy will be reflected in Section IV.2. Content and Form of Application Submission—Project Description—Project Budget and Budget Justification in the I-LEAD FOA and will also reflect suggested travel costs increased by $500 per region for additional estimated lodging and per diem.

f. Review Criteria—

i. Elimination of Bonus Points. ANA proposes to remove the bonus points that were authorized in FY 2016 I-LEAD FOAs because our experience with the prior year's application review demonstrated the allocation of up to 5 bonus points for letters of support from youth is not necessary to ensure applications reflect support from youth involved in the development of the project proposal as well as in project implementation. The proposed application point allocation reflecting the discontinued use of bonus points is found at Section V.1. Criteria of the I-LEAD FOA.

ii. Allocation of points across I-LEAD application evaluation criteria. ANA proposes to modify the point allocation across I-LEAD application review criteria to account for the proposed elimination of bonus points as well as the proposed OWP application requirement. We propose, beginning in FY 2017, the following evaluation criteria point allocations: Needs for Assistance up to 10 points; Outcomes Expected up to 25 points; Approach up to 35 points; OWP up to 20 points; and the Budget and Budget Justification up to10 points. The proposed modification to the point allocation can be found at Section V.1. Criteria for the I-LEAD FOA.

Statutory Authority: Section 814 of the Native American Programs Act of 1974 (NAPA), as amended.

Kimberly Romine,
Deputy Commissioner, Administration for Native Americans.

[FR Doc. 2017-01418 Filed 1-19-17; 8:45 am]

BILLING CODE 4184-34-P